DEPARTMENT OF THE TREASURY

Agency Information Collection Activities; Proposed Collection; Comment Request; Grants to States for Low-Income Housing Projects in Lieu of Tax Credits

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before August 16, 2019.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Requests for additional information should be directed to Sustanchia Gladden, Department of the Treasury, 1500 Pennsylvania Avenue NW, Room 1050, Washington, DC 20020; telephone number: (202) 622-8951 or to Sustanchia.Gladden@treasury.gov.

SUPPLEMENTARY INFORMATION:

Title: Grants to States for Low-Income Housing Projects in Lieu of Tax Credits.

OMB Control Number: 1505-0218.

Type of Review: Extension without change of a currently approved collection.

Description: Authorized under the American Recovery and Reinvestment Act (ARRA), hereafter Recovery Act of 2009 (Pub. L. 111-5), the Department of the Treasury is implementing several provisions of the Act, more specifically Division B—Tax, Unemployment, Health, State Fiscal Relief, and Other Provisions. Among these components is a program which requires Treasury to make payments, in lieu of a tax credit, to state housing credit agencies. State housing credit agencies use the funds to make subawards to finance the construction or acquisition and rehabilitation of qualified low-income buildings. The collection of information is necessary to properly monitor compliance with program requirements.

Form: None.

Affected Public: State and Local Governments.

Estimated Number of Respondents: 114.

Frequency of Response: Annually.

Estimated Total Number of Annual Responses: 114.

Estimated Time per Response: 30 minutes.

Estimated Total Annual Burden Hours: 57.

Request For Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: June 11, 2019.
Spencer W. Clark,
Treasury PRA Clearance Officer.

[FR Doc. 2019-12666 Filed 6-14-19; 8:45 am]

BILLING CODE 4810-25-P